DEPARTMENT OF HEALTH AND HUMAN SERVICES

National Institutes of Health

Center For Scientific Review; Amended Notice of Meeting

Notice is hereby given of a change in the meeting of the Center for Scientific Review Special Emphasis Panel, March 10, 2026, 09:00 a.m. to March 11, 2026, 07:00 p.m., National Institutes of Health, Rockledge II, 6701 Rockledge Drive, Bethesda, MD 20892 which was published in the Federal Register on January 30, 2026, 91 FR 4088 Doc No. 2026-01836.

Change in contact person from Dr. Sharon Isern to Vishakha Sharma, Scientific Review Officer, Center for Scientific Review, National Institutes of Health, 6701 Rockledge Drive, Bethesda, MD 20892, (301) 594-2297, sharmav3@nih.gov. The meeting is closed to the public.

Dated: February 23, 2026.
Bruce A. George,
Program Analyst, Office of Federal Advisory Committee Policy.

[FR Doc. 2026-03817 Filed 2-25-26; 8:45 am]

BILLING CODE 4140-01-P